DEPARTMENT OF TRANSPORTATION

Coast Guard

33 CFR Part 100

[CGD07-02-074]

RIN 2115-AE46

Special Local Regulations; APBA Off-Shore Boat Race, Tybee Island, GA

AGENCY: Coast Guard, DOT.

ACTION: Temporary final rule.

SUMMARY: Temporary special local regulations are being established for the APBA Off-Shore Boat Race, Tybee Island, Georgia. This rule restricts the movement of non-participating vessels in the regulated area around the race course located off-shore of Tybee Island. This rule is needed to provide for the safety of life on navigable waters during the event.

DATES: This rule is effective from 11 a.m. on July 6, 2002 until 6 p.m. on July 8, 2002.

ADDRESSES: Comments and material received from the public, as well as documents indicated in this preamble as being available in the docket, are part of docket [CGD07-02-074] and are available for inspection or copying at Coast Guard Group Charleston, 196 Tradd St, Charleston S.C. 29401 between 7:30 a.m. and 3 p.m., Monday through Friday, except Federal Holidays.

FOR FURTHER INFORMATION CONTACT: LTJG Martinez, Coast Guard Group Charleston at (843) 724-7632.

SUPPLEMENTARY INFORMATION:

Regulatory Information

We did not publish a notice of proposed rulemaking (NPRM) for this rule. Under 5 U.S.C. 553(b)(B), the Coast Guard finds that good cause exists for not publishing a NPRM. Publishing a NPRM, which would incorporate a comment period before a final rule could be issued, would be contrary to public safety interests since immediate action is needed to minimize potential danger to the public from a high speed boat race and because there will be numerous spectator craft in the area.

For the same reason, under 5 U.S.C. 553(d)(3), the Coast Guard finds that good cause exists for making this rule effective less than 30 days after publication in the Federal Register.

Background and Purpose

This rule is required to provide for the safety of life on navigable waters because of the inherent danger associated with a high-speed power boat race. This rule prohibits non-participating vessels from entering the designated regulated area off-shore of Tybee Island, Georgia during the event. A Coast Guard Patrol Commander will be present during this event to enforce this rule.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979) because the rule minimally impacts navigation: the regulated area will be enforced for seven hours on two separate days, vessels will still be able to transit around the regulated area, and vessels may be allowed to enter the regulated area with the permission of the Coast Guard Patrol Commander.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

This rule may affect the following entities, some of which may be small entities: the owners or operators of vessels intending to transit or anchor in a portion of the Atlantic Ocean, near Tybee Island, Georgia, from 11 a.m. to 6 p.m. on July 6 or July 7, 2002 (or July 8, 2002 if the race is postponed due to weather on July 6 or July 7). The Coast Guard certifies under 5 U.S.C. 605(b) that this rule will not have a significant economic impact on a substantial number of small entities because it has minimal impact on navigation: the regulated area will be enforced for seven hours on two separate days, vessels will still be able to transit around the regulated area, and vessels may be allowed to enter the regulated area with the permission of the Coast Guard Patrol Commander.

Assistance for Small Entities

Under Section 213(a) of the Small Business Regulatory Enforcement Fairness Act of 1996 (Public Law 104-121), we offer to assist small entities in understanding the rule so that they may better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that this rule does not have implications for federalism.

Unfunded Mandates Reform Act

The Unfunded Mandates Reform Act of 1995 (2 U.S.C. 1531-1538) governs the issuance of Federal regulations that require unfunded mandates. In particular, the Act addresses actions that may result in the expenditure by a State, local, or tribal government, in the aggregate, or by the private sector, of $100,000,000 or more in any one year. Although this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Environment

The Coast Guard has considered the environmental impact of this action and has determined pursuant to Figure 2-1, paragraph 34(h) of Commandant Instruction M16475.1C, that this action is categorically excluded from further environmental documentation.

Indian Tribal Governments

This rule does not have tribal implications under Executive Order 13175, Consultation and Coordination with Indian Tribal Governments, because it does not have a substantial effect on one or more Indian tribes, on the relationship between the Federal Government and Indian Tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 100

Marine safety, Navigation (water), Reporting and recordkeeping requirements, Waterways.

For the reasons discussed in the preamble, the Coast Guard amends 33 CFR part 100 as follows:

PART 100—MARINE EVENTS

1. The authority citation for Part 100 continues to read as follows:

Authority: 33 U.S.C. 1233, 49 CFR 1.46.

2. From 11 a.m. July 6, 2002 until 6 p.m. July 8, 2002, add temporary § 100.35T-07-074 to read as follows:

§ 100.35T-07-074, APBA Off-shore Boat Race, Tybee Island, Georgia.

(a) Regulated Area: A regulated area is established for all waters within an area enclosed by lines between the following points located off-shore of Tybee Island, GA:

(1) 32-01.638′N 080-50.420′W, then roughly south for about 1 mile to

(2) 32-00.640′N 080-50.334′W, then roughly east for about one-half mile to

(3) 32-00.719′N 080-49.664′W, then roughly southeast for about one-half mile to

(4) 32-00.465′N 080-49.264′W, then roughly east for about one mile to

(5) 32-00.519′N 080-48.501′W, then roughly north-northwest one and one-quarter mile to

(6) 32-01.716′N 080-49.122′W, then roughly west one and one-quarter mile to point (1).

All coordinates referenced use Datum: NAD 1983.

(b) Coast Guard Patrol Commander. The Coast Guard Patrol Commander is a commissioned, warrant, or petty officer of the Coast Guard who has been designated by Commanding Officer, Coast Guard Group Charleston SC.

(c) Special Local Regulations: Non-participant vessels are prohibited from entering the regulated area unless authorized by the Patrol Commander. The sponsor will establish and mark an area suitable for viewing the race from spectator craft.

(d) Dates: This section will be enforced from 11 a.m. until 6 p.m. on July 6, 2002, and from 11 a.m. until 6 p.m. on July 7, 2002. If the race is postponed on one of these dates due to weather, this section will be enforced from 11 a.m. until 6 p.m. on July 8, 2002.

Dated: June 27, 2002.
J.W. Stark,
Captain, Coast Guard, Acting Commander, Seventh Coast Guard District.

[FR Doc. 02-16746 Filed 7-2-02; 8:45 am]

BILLING CODE 4910-15-P